DEPARTMENT OF COMMERCE

National Oceanic and Atmospheric Administration

[I.D. 100301A]

Marine Mammals, File No. 756-1630

AGENCY: National Marine Fisheries Service (NMFS), National Oceanic and Atmospheric Administration (NOAA), Commerce.

ACTION: Issuance of permit.

SUMMARY: Notice is hereby given that Dan Tapster, BBC Natural History Unit, Broadcasting House, Whiteladies Road, Bristol, BS8 2LR, United Kingdom, has been issued a permit to take by Level B harassment one species, bottlenose dolphins (Tursiops truncatus), of marine mammals for purposes of commercial/educational photography.

ADDRESSES: The permit and related documents are available for review upon written request or by appointment in the following offices:

Permits Division, Office of Protected Resources, NMFS, 1315 East-West Highway, Room 13130, Silver Spring, MD 20910 (301)713-2289); and

Southeast Region, NMFS, 9721 Executive Center Drive North, St. Petersburg, FL 33702-2432; phone (727)570-5301; fax (727)570-5320.

FOR FURTHER INFORMATION CONTACT: Lynne Barre or Jill Lewandowski, (301) 713-2289.

SUPPLEMENTARY INFORMATION: On June 6, 2001, notice was published in the Federal Register (64 FR 65687) that the above-named applicant had submitted a request for a permit to take one species of marine mammals by Level B harassment during the course of commercial photographic activities in Hilton Head, South Carolina. The requested permit has been issued, under the authority of §104(c)(6) of the Marine Mammal Protection Act of 1972, as amended (16 U.S.C. 1361 et seq.).

Dated: October 5, 2001.
Ann D. Terbush,
Chief, Permits and Documentation Division, Office of Protected Resources, National Marine Fisheries Service.

[FR Doc. 01-25978 Filed 10-15-01; 8:45 am]

BILLING CODE 3510-22-S